DEPARTMENT OF THE INTERIOR

National Park Service

[NPS-WASO-NAGPRA-NPS0040235; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and associated funerary objects and has determined that there is a cultural affiliation between the human remains and associated funerary objects and Indian Tribes or Native Hawaiian organizations in this notice.

DATES: Repatriation of the human remains and associated funerary objects in this notice may occur on or after July 3, 2025.

ADDRESSES: Send written requests for repatriation of the human remains and associated funerary objects in this notice to Deanna Byrd, Peabody Museum of Archaeology and Ethnology, Harvard University, 11 Divinity Avenue, Cambridge, MA 02138, email deannabyrd@fas.harvard.edu.

SUPPLEMENTARY INFORMATION: This notice is published as part of the National Park Service's administrative responsibilities under NAGPRA. The determinations in this notice are the sole responsibility of the PMAE, and additional information on the determinations in this notice, including the results of consultation, can be found in the inventory or related records. The National Park Service is not responsible for the determinations in this notice.

Abstract of Information Available

Human remains representing, at least, four individuals have been identified from mounds on the Wassica River, near Camp Pleasant, Jefferson County, FL, possibly associated with Florida State Site #8JE63. No associated funerary objects are present. The human remains were collected by F.W. Walker in 1932 and donated by Walker to the PMAE in 1935.

Human remains representing, at least, one individual have been identified from a cemetery near Point Washington, Walton County, FL (Florida State Site #8WL16). The three associated funerary objects are three lots of ceramic vessels and vessel fragments. Clarence Bloomfield Moore collected the human remains and associated funerary objects in 1901 and donated them to the PMAE the same year.

A total of one associated funerary object was defined during consultation as made exclusively for burial purposes according to Native American traditional knowledge. The one associated funerary object is one lot consisting of a ceramic vessel and fragments removed from a sand dune on Santa Rosa Island by Dr. Alfred M. Woodcock prior to 1935 and donated to the PMAE in 1935.

A total of 43 associated funerary objects were defined during consultation, in which either the location of the human remains is known but they are not present at the PMAE and/or the objects were made exclusively for burial purposes, according to Native American traditional knowledge. These 43 associated funerary objects are all ceramic vessels or vessel fragments known or presumed to be collected by Clarence Bloomfield Moore between 1901 and 1902 and donated to the PMAE between 1901 and 1907. There are 42 lots of associated funerary objects currently located, including: two lots from a mound near Baker's Landing, St. Andrews Bay, Bay County, FL (possibly Florida State Site #8By29); two lots from a mound near Strange's Landing, St. Andrews Bay, Bay County, FL (Florida State Site #8By26); one lot from a mound near West Bay Post Office, St. Andrews Bay, Bay County, FL (Florida State Site #8By11); and one lot from a small mound near Burnt Mill Creek, St. Andrews Bay, Bay County, FL (Florida State Site #8By16); one lot from a mound near Hare Hamock, St. Andrew's Sound, Bay County, FL (Florida State Site #8By30 or 8By31); one lot from a mound near Davis Point, Calhoun County, FL; one lot from a mound near Brickyard Creek, Franklin County, FL (Florida State Site #8Fr8); one lot from a mound near Eleven Mile Point, St. Vincent's Sound, Franklin County, FL (Florida State Site #8Fr10); one lot from Cool Spring Mound, Franklin County, FL (Florida State Site #8Fr19); one lot from Pierce Mounds, Franklin County, FL (Florida State Site #8Fr14); two lots from a mound near Aspalaga, Gadsden County, FL (Florida State Site #8Gd1); one lot from a mound at the Gotier Hammock site, St. Joseph Bay, Gulf County, FL (Florida State Site #8Gu2); three lots from a mound near the Chipola Cutoff, Gulf County, FL (Florida State Site #8Gu5); one lot from near Sampson's Landing on the Apalachicola River, Jackson County, FL (Florida State #8Ja1); two lots from a mound at Rocky Bayou West, Okaloosa County, FL (Florida State Site #8Ok3); one lot from the vicinity of Walton's Camp, Santa Rosa Sound, Santa Rosa County, FL; seven lots from a mound at Walton's Camp, Santa Rosa Sound, Santa Rosa County, FL (Florida State Site #8Ok6); one lot from a mound near Maester Creek, Blackwater Bay, Santa Rosa County, FL (Florida State Site #8Sr780); two lots from mounds in the vicinity of Santa Rosa Sound, Santa Rosa County, FL (Florida State Site #8Sr1); four lots from a mound near point Washington, Choctawhatchee Bay, Walton County, FL; two lots from a small mound at Rocky Bayou, Choctawhatchee Bay, Walton County, FL; one lot from a mound near Rocky Bayou, Choctawhatchee Bay, Walton County, FL; and three lots from a mound near Jolly Bay, Walton County, FL (Florida State Site #8Wl15). There is one lot not currently located, from a mound near Huckleberry Landing, Franklin County, FL (Possibly Florida State Site #8Fr12).

Cultural Affiliation

Based on the information available and the results of consultation, cultural affiliation is clearly identified by the information available about the human remains and associated funerary objects described in this notice.

Determinations

The PMAE has determined that:

• The human remains described in this notice represent the physical remains of five individuals of Native American ancestry.

• The 47 objects described in this notice are reasonably believed to have been placed intentionally with or near individual human remains at the time of death or later as part of the death rite or ceremony.

• There is a connection between the human remains and associated funerary objects described in this notice and the Jena Band of Choctaw Indians; Miccosukee Tribe of Indians; Mississippi Band of Choctaw Indians; Seminole Tribe of Florida; The Choctaw Nation of Oklahoma; The Muscogee (Creek) Nation; and The Seminole Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 3, 2025. If competing requests for repatriation are received, the PMAE must determine the most appropriate requestor prior to repatriation. Requests for joint repatriation of the human remains and associated funerary objects are considered a single request and not competing requests. The PMAE is responsible for sending a copy of this notice to the Indian Tribes and Native Hawaiian organizations identified in this notice.

Authority: Native American Graves Protection and Repatriation Act, 25 U.S.C. 3003, and the implementing regulations, 43 CFR 10.10.

Dated: May 21, 2025.
Melanie O'Brien,
Manager, National NAGPRA Program.

[FR Doc. 2025-10012 Filed 6-2-25; 8:45 am]

BILLING CODE 4312-52-P